DEPARTMENT OF DEFENSE

Office of the Secretary

Submission for OMB Review; Comment Request

ACTION: Notice.

The Department of Defense will submit to OMB for emergency processing, the following proposal for collection of information under the provisions of the Paperwork Reduction Act (44 U.S.C. Chapter 35).

Title and OMB Number: Army Recruiting Market Segmentation Survey; OMB Number 0702-[To Be Determined].

Type of Request: New Collection; Emergency processing requested with a shortened public comment period ending February 22, 2000. An approval date of February 29, 2000, has been requested.

Number of Respondents: 15,000.

Responses per Respondent: 1.

Annual Responses: 15,000.

Average Burden per Response: 27 minutes (approximately).

Annual Burden Hours: 6,667.

Needs and Uses: This collection of information is needed to comply with Sections 115 and 503 of Title 10, United States Code. To inform and guide its redesigned marketing and recruiting campaigns, the Army will collect new information on the broad set of factors that affect youth attitudes and willingness to enter the Army. These factors include youth's aspirations for their education, jobs, and careers; their perceptions of the opportunities and benefits offered by joining the Army versus pursuing continued education or taking a job in the civilian sector; the aspirations for these youth held by their key influencers; and these influencers' perceptions of the opportunities to realize those aspirations in the Army versus other settings. The information will be used to design the right enlistment/career options, media campaign, and recruiting strategy. The survey will be administered to a national probability sample of youth, 16 to 24 years of age. A shorter interview with one of the respondent's parents will be completed.

Affected Public: Individuals or Households.

Frequency: One-time.

Respondent's Obligation: Voluntary.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302, or by fax at (703) 604-6270. Requests for the collection proposal should include an e-mail address, if possible. Due to the length of the survey instruments, we will provide the surveys as attachments to an e-mail, although a paper copy will be provided as necessary.

Dated: February 9, 2000.
Patricia L. Toppings,
Alternate OSD Federal Register Liaison Officer, Department of Defense.

[FR Doc. 00-3416 Filed 2-14-00; 8:45 am]

BILLING CODE 5001-10-M